DEPARTMENT OF ENERGY

Federal Energy Regulatory Commission

Combined Notice of Filings

Take notice that the Commission has received the following Natural Gas Pipeline Rate and Refund Report filings:

Filings Instituting Proceedings

Docket Numbers: RP14-643-000.

Applicants: Pine Needle LNG Company, LLC.

Description: 2014 Annual Fuel and Electric Power Tracker Filing to be effective 5/1/2014.

Filed Date: 3/26/14.

Accession Number: 20140326-5100.

Comments Due: 5 p.m. ET 4/7/14.

Docket Numbers: RP14-644-000.

Applicants: Algonquin Gas Transmission, LLC.

Description: Ramapo Negotiated Rate Releases 4-01-2014 to be effective 4/1/2014.

Filed Date: 3/26/14.

Accession Number: 20140326-5131.

Comments Due: 5 p.m. ET 4/7/14.

Docket Numbers: RP14-645-000.

Applicants: Algonquin Gas Transmission, LLC.

Description: 2nd Ramapo Negotiated Rate Release Filing 4-01-2014 to be effective 4/1/2014.

Filed Date: 3/26/14.

Accession Number: 20140326-5135.

Comments Due: 5 p.m. ET 4/7/14.

Docket Numbers: RP14-646-000.

Applicants: Equitrans, L.P.

Description: Remove Non-conforming Service Agreements—EGC to be effective 4/1/2014.

Filed Date: 3/27/14.

Accession Number: 20140327-5011.

Comments Due: 5 p.m. ET 4/8/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-877-009.

Applicants: Cameron Interstate Pipeline, LLC.

Description: Cameron Interstate Re-submission of Baseline Sections 8.1 and 10.0-3.26.14 to be effective 7/1/2010.

Filed Date: 3/26/14.

Accession Number: 20140326-5060.

Comments Due: 5 p.m. ET 4/7/14.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2014.
Nathaniel J. Davis, Sr.,
Deputy Secretary.

[FR Doc. 2014-07439 Filed 4-2-14; 8:45 am]

BILLING CODE 6717-01-P